POSTAL SERVICE

Privacy Act of 1974; System of Records

AGENCY: Postal Service™.

ACTION: Notice of modification to existing system of records.

SUMMARY: The United States Postal Service® (Postal Service) is proposing to modify a General Privacy Act System of Records (SOR) to support the sharing of employment and wage data with the Bureau of Labor Statistics (BLS) for their Occupational Employment Statistics (OES) program. These data are used for the development of employment and wage estimates for over 800 occupations.

DATES: These revisions will become effective without further notice on April 1, 2015 unless comments received on or before that date result in a contrary determination.

ADDRESSES: Comments may be mailed or delivered to the Privacy and Records Office, United States Postal Service, 475 L'Enfant Plaza SW., Room 9517, Washington, DC 20260-1101. Copies of all written comments will be available at this address for public inspection and photocopying between 8 a.m. and 4 p.m., Monday through Friday.

FOR FURTHER INFORMATION CONTACT: Matthew J. Connolly, Chief Privacy Officer, Privacy and Records Office, 202-268-8582 or privacy@usps.gov.

SUPPLEMENTARY INFORMATION: This notice is in accordance with the Privacy Act requirement that agencies publish their systems of records in the Federal Register when there is a revision, change, or addition, or when the agency establishes a new system of records. The Postal Service™ has determined that one General Privacy Act System of Records should be revised to modify categories of records in the system, purpose(s), routine uses of records maintained in the system, including categories of users and the purpose of such uses, and retrievability.

Background

Pursuant to agreements that will protect the use of Postal Service data, the Postal Service intends to provide the Bureau of Labor Statistics (BLS) with employment and wage data pertaining to USPS employees. These data are used in BLS's OES program and, in conjunction with data obtained from the Office of Personnel Management, are used to develop employment and wage estimates.

The OES program produces employment and wage estimates for over 800 occupations. These estimates include the number of jobs in certain occupations and estimates of the wages paid to with respect to those jobs. Through its program, BLS maintains a comprehensive source of regularly produced occupational employment and wage information available for the nation as a whole, for individual States, and for metropolitan areas. OES data is used to develop information regarding current and projected employment needs, job opportunities, job placement aids, and state education and workforce development plans. Jobseekers can use OES data to analyze occupational wages and cost of living data by U.S area. Employment and wage estimate data are also used by academic and government researchers to study labor markets and wage and employment trends. BLS is now developing occupational employment and wage estimates and is requesting USPS occupational data which includes occupational titles and occupational codes.

Rationale for Changes to USPS Privacy Act Systems of Records

The Postal Service is proposing modifications to SOR 100.400. Categories of records is being amended to reflect that the Postal Service maintains a unique occupation code and an occupation title for each employee, as well as annual salary, hourly rate, and the Rate Schedule Code (RSC), which is used to identify an employee's pay type. Pay type refers to any kind of wage that an employer is allotting to an employee. This can include, but is not limited to, holiday pay, overtime pay, annual leave pay, sick leave pay, severance pay, etc. Purpose is being modified to permit the Postal Service to maintain annual salary, hourly rate, and pay type information for the purpose of statistical research and reporting. The Postal Service is also adding a routine use explaining that the disclosure of these data may be made to BLS for the development of occupational estimates for federal employees. Retrievability is being revised to indicate the data can now be retrieved by occupation code and/or occupation title.

III. Description of Changes to Systems of Records

Pursuant to 5 U.S.C. 552a (e)(11), interested persons are invited to submit written data, views, or arguments on this proposal. A report of the proposed modifications has been sent to Congress and to the Office of Management and Budget for their evaluations. The Postal Service does not expect this amended system of records to have any adverse effect on individual privacy rights. The affected system is as follows:

USPS 100.400

SYSTEM NAME: Personnel Compensation and Payroll Records

Accordingly, for the reasons stated, the Postal Service proposes changes in the existing system of records as follows:

USPS 100.400

SYSTEM NAME:

Personnel Compensation and Payroll Records.

CATEGORIES OF RECORDS IN THE SYSTEM

[CHANGE TO READ]

1. Employee and family member information: Names(s), Social Security Number(s), Employee Identification Number, date(s) of birth, postal assignment information, work contact information, home address(es) and phone number(s), finance number(s), occupation code, occupation title, duty location, and pay location.

2. Compensation and payroll information: Records related to payroll, annual salary, hourly rate, Rate Schedule Code (RSC) or pay type, payments, deductions, compensation, and benefits; uniform items purchased; proposals and decisions under monetary awards; suggestion programs and contest; injury compensation; monetary claims for personal property loss or damage; and garnishment of wages.

* * * * *

PURPOSE

* * * * *

[CHANGE TO READ]

9. To support statistical research and reporting.

ROUTINE USES OF RECORDS IN THE SYSTEM, INCLUDING CATEGORIES OF USERS AND THE PURPOSES OF SUCH USES

* * * * *

[CHANGE TO READ]

k. Disclosure of employment and wage data records about current Postal Service employees may be made to the Bureau of Labor Statistics for use in their Occupational Employment Statistics program for the purpose of developing estimates of the number of jobs in certain occupations, and estimates of the wages paid to them.

* * * * *

RETRIEVABILITY

[CHANGE TO READ]

By employee name, Social Security Number, Employee Identification Number, occupation code, occupation title, or duty or pay location.

* * * * *

Stanley F. Mires,
Attorney, Federal Requirements.

[FR Doc. 2015-04211 Filed 2-27-15; 8:45 am]

BILLING CODE 7710-12-P